ENVIRONMENTAL PROTECTION AGENCY

[FRL-9787-2 ]

Notification of a Public Teleconference of the Chartered Science Advisory Board

AGENCY: Environmental Protection Agency (EPA).

ACTION: Notice.

SUMMARY: The EPA Science Advisory Board (SAB) Staff Office announces a public teleconference of the chartered SAB to conduct a quality review of an SAB draft report on approaches to derive a maximum contaminant level goal for perchlorate.

DATES: The public teleconference will be held on March 29, 2013, from 1:00 p.m. to 4:00 p.m.

ADDRESSES: The public teleconference will be conducted by telephone only.

FOR FURTHER INFORMATION CONTACT: Any member of the public wishing to obtain general information regarding the quality review teleconference should contact Dr. Angela Nugent, Designated Federal Officer (DFO), EPA Science Advisory Board (1400R), 1200 Pennsylvania Avenue NW., Washington, DC 20460; via telephone/voice mail (202) 564-2218; fax (202) 565-2098 or via email at nugent.angela@epa.gov. General information concerning the EPA Science Advisory Board can be found on the SAB Web site at http://www.epa.gov/sab.

SUPPLEMENTARY INFORMATION: Pursuant to the Federal Advisory Committee Act (FACA), 5 U.S.C., App. 2, notice is hereby given that the EPA Science Advisory Board will hold a public teleconference to conduct a quality review of an SAB draft report. The SAB was established pursuant to 42 U.S.C. 4365 to provide independent scientific and technical advice to the Administrator on the technical basis for Agency positions and regulations. The SAB is a Federal Advisory Committee under FACA. The SAB will comply with the provisions of FACA and all appropriate SAB Staff Office procedural policies.

Background

Quality review is a key function of the chartered SAB. Draft reports prepared by SAB committees, panels, or work groups must be reviewed and approved by the chartered SAB before transmittal to the EPA Administrator. The chartered SAB makes a determination in a public meeting consistent with FACA about the quality of all draft reports and determines whether the report is ready to be transmitted to the EPA Administrator.

The Safe Drinking Water Act requires the EPA to request comments from the SAB prior to proposal of a maximum contaminant level goal (MCLG) and national primary drinking water regulation. The chartered SAB will conduct a quality review of a draft SAB report reviewing the scientific and technical bases for the approaches EPA is considering for the MCLG for perchlorate, as described in a draft white paper entitled “Life Stage Considerations and Interpretation of Recent Epidemiological Evidence to Develop a Maximum Contaminant Level Goal for Perchlorate.” Background information about this advisory activity can be found on the SAB Web site at http://yosemite.epa.gov/sab/sabproduct.nsf/fedrgstr_activites/Perchlorate%20MCLG%20Approaches?OpenDocument.

Availability of Meeting Materials: The agenda and other materials in support of the teleconference will be placed on the SAB Web site at http://www.epa.gov/sab in advance of the teleconference.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments pertaining to the group providing advice, EPA's charge questions and EPA review or background documents. Input from the public to the SAB will have the most impact if it consists of comments that provide specific scientific or technical information or analysis for the SAB to consider or if it relates to the clarity or accuracy of the technical information. Members of the public wishing to provide comment should contact the DFO for the relevant advisory committee directly. Oral Statements: In general, individuals or groups requesting time to make an oral presentation at a public SAB teleconference will be limited to three minutes. Those interested in being placed on the public speakers list for the March 29, 2013 teleconference should contact Dr. Nugent at the contact information provided above by March 22, 2013. Written Statements: Written statements should be supplied to the DFO via email to nugent.angela@epa.gov by March 22, 2013. Written statements should be supplied in one of the following acceptable file format: Adobe Acrobat PDF, MS Word, MS PowerPoint, or Rich Text files in IBM-PC/Windows 98/2000/XP format). It is the SAB Staff Office general policy to post written comments on the Web page for the advisory meeting or teleconferences. Submitters are requested to provide an unsigned version of each document because the SAB Staff Office does not publish documents with signatures on its web sites. Members of the public should be aware that their personal contact information, if included in any written comments, may be posted to the SAB Web site. Copyrighted material will not be posted without explicit permission of the copyright holder.

Accessibility: For information on access or services for individuals with disabilities, please contact Dr. Nugent, as appropriate at the contact information provided above. To request accommodation of a disability, please contact Dr. Nugent preferably at least 10 days prior to the teleconference, to give EPA as much time as possible to process your request.

Dated: February 21, 2013.
Thomas H. Brennan,
Deputy Director, EPA Science Advisory Board Staff Office.

[FR Doc. 2013-05251 Filed 3-5-13; 8:45 am]

BILLING CODE 6560-50-P